NATIONAL ARCHIVES AND RECORDS ADMINISTRATION

[NARA-19-0009; NARA-2019-031]

Records Schedules; Availability and Request for Comments

AGENCY: National Archives and Records Administration (NARA).

ACTION: Notice of availability of proposed records schedules; request for comments

SUMMARY: The National Archives and Records Administration (NARA) publishes notice of certain Federal agency requests for records disposition authority (records schedules). We publish notice in the Federal Register and on regulations.gov for records schedules in which agencies propose to dispose of records they no longer need to conduct agency business. We invite public comments on such records schedules.

DATES: NARA must receive comments by August 12, 2019.

ADDRESSES: You may submit comments by either of the following methods. You must cite the control number, which appears on the records schedule in parentheses after the name of the agency that submitted the schedule.

• Federal eRulemaking Portal: http://www.regulations.gov.

• Mail: Records Appraisal and Agency Assistance (ACR); National Archives and Records Administration; 8601 Adelphi Road; College Park, MD 20740-6001.

FOR FURTHER INFORMATION CONTACT: Records Management Operations by email at request.schedule@nara.gov, by mail at the address above, or by phone at 301-837-1799.

SUPPLEMENTARY INFORMATION:

Public Comment Procedures

We are publishing notice of records schedules in which agencies propose to dispose of records they no longer need to conduct agency business. We invite public comments on these records schedules, as required by 44 U.S.C. 3303a(a), and list the schedules at the end of this notice by agency and subdivision requesting disposition authority.

In addition, this notice lists the organizational unit(s) accumulating the records or states that the schedule has agency-wide applicability. It also provides the control number assigned to each schedule, which you will need if you submit comments on that schedule. We have uploaded the records schedules and accompanying appraisal memoranda to the regulations.gov docket for this notice as “other” documents. Each records schedule contains a full description of the records at the file unit level as well as their proposed disposition. The appraisal memorandum for the schedule includes information about the records.

We will post comments, including any personal information and attachments, to the public docket unchanged. Because comments are public, you are responsible for ensuring that you do not include any confidential or other information that you or a third party may not wish to be publicly posted. If you want to submit a comment with confidential information or cannot otherwise use the regulations.gov portal, you may contact request.schedule@nara.gov for instructions on submitting your comment.

We will consider all comments submitted by the posted deadline and consult as needed with the Federal agency seeking the disposition authority. After considering comments, we will post on regulations.gov a “Consolidated Reply” summarizing the comments, responding to them, and noting any changes we have made to the proposed records schedule. We will then send the schedule for final approval by the Archivist of the United States. You may elect at regulations.gov to receive updates on the docket, including an alert when we post the Consolidated Reply, whether or not you submit a comment. You may request additional information about the disposition process through the contact information listed above.

We will post schedules on our website in the Records Control Schedule (RCS) Repository, at https://www.archives.gov/records-mgmt/rcs, after the Archivist approves them. The RCS contains all schedules approved since 1973.

Background

Each year, Federal agencies create billions of records. To control this accumulation, agency records managers prepare schedules proposing retention periods for records and submit these schedules for NARA's approval. Once approved by NARA, records schedules provide mandatory instructions on what happens to records when no longer needed for current Government business. The records schedules authorize agencies to preserve records of continuing value in the National Archives or to destroy, after a specified period, records lacking continuing administrative, legal, research, or other value. Some schedules are comprehensive and cover all the records of an agency or one of its major subdivisions. Most schedules, however, cover records of only one office or program or a few series of records. Many of these update previously approved schedules, and some include records proposed as permanent.

Agencies may not destroy Federal records without the approval of the Archivist of the United States. The Archivist grants this approval only after thorough consideration of the records' administrative use by the agency of origin, the rights of the Government and of private people directly affected by the Government's activities, and whether or not the records have historical or other value. Public review and comment on these records schedules is part of the Archivist's consideration process.

Schedules Pending

1. Department of Agriculture, Forest Service, Civil Rights Records (DAA-0572-2018-0005).

2. Department of Agriculture, Forest Service, Groundwater Resource Management (DAA-0095-2018-0057).

3. Department of the Army, Agency-wide, Criminal Investigation Division Digital Forensic Standalone Server Files (DAA-AU-2016-0061).

4. Department of the Army, Agency-wide, Small Business Innovation Research Program Files (DAA-AU-2017-0001)

5. Department of the Army, Agency-wide, General Officer Pistol Program System Files (DAA-AU-2017-0004).

6. Department of the Army, Agency-wide, Army Export Control System (AECS) Master Files (DAA-AU-2018-0028).

7. Department of Energy, Federal Energy Regulatory Commission, Annual Charges Records (DAA-0138-2019-0001).

8. Department of Homeland Security, U.S. Citizenship and Immigration Services, Parking Applications (DAA-0566-2018-0005).

9. Department of the Navy, Agency-wide, Board for Correction of Naval Records and Marine Corps Performance Evaluation Case Files (DAA-NU-2019-0007).

10. Federal Mine Safety and Health Review Commission, Agency-wide, Docket Office Records (DAA-0470-2019-0001).

11. Federal Mine Safety and Health Review Commission, Agency-wide, Records of the Office of the Chairman, Commissioners, and Counsels (DAA-0470-2019-0004).

12. General Services Administration, Agency-wide, Audiovisual Records (DAA-0269-2017-0002).

13. Office of Government Ethics, Agency-wide, Agency Information Management System (DAA-0522-2019-0006).

14. Office of Government Ethics, Program Counsel Division, Congressional and Legislative Affairs Records (DAA-0522-2019-0001).

15. Railroad Retirement Board, Secretary to the Board, Board Imaging Database (DAA-0184-2018-0008).

16. Securities and Exchange Commission, Division of Enforcement, Case Management and Tracking System (DAA-0266-2019-0001).

Laurence Brewer,
Chief Records Officer for the U.S. Government.

[FR Doc. 2019-13530 Filed 6-25-19; 8:45 am]

BILLING CODE 7515-01-P